DEPARTMENT OF HEALTH AND HUMAN SERVICES

Office of the Secretary

Findings of Research Misconduct

AGENCY: Office of the Secretary, HHS.

ACTION: Notice.

SUMMARY: Findings of research misconduct have been made on the part of Li Wang, Ph.D., Professor of Physiology and Neurobiology, University of Connecticut (UConn) (Respondent). Dr. Wang engaged in research misconduct in research included in National Institute of Diabetes and Digestive and Kidney Diseases (NIDDK), National Institutes of Health (NIH), grant applications 1 R01 DK118645-01A1, 1 R01 DK116203-01, 1 R01 DK114804-01, and 2 R01 DK080440-09A1 and National Institute of General Medical Sciences (NIGMS), NIH, grant applications 1 R01 GM125140-01 and 1 R01 GM126685-01. The administrative actions, including supervision for a period of one (1) year, were implemented beginning on August 14, 2018, and are detailed below.

FOR FURTHER INFORMATION CONTACT:

Wanda K. Jones, Dr.P.H., Interim Director, Office of Research Integrity, 1101 Wootton Parkway, Suite 750, Rockville, MD 20852, (240) 453-8200.

SUPPLEMENTARY INFORMATION: Notice is hereby given that the Office of Research Integrity (ORI) has taken final action in the following case:

Li Wang, Ph.D., University of Connecticut: Based on an assessment by UConn, an admission by Respondent and additional documents providing clarifying information, and analysis conducted by ORI in its oversight review, ORI found that Dr. Li Wang, Professor of Physiology and Neurobiology, UConn, engaged in research misconduct by recklessly including false data in NIDDK, NIH, grant applications 1 R01 DK118645-01A1, 1 R01 DK116203-01, 1 R01 DK114804-01, and 2 R01 DK080440-09A1 and NIGMS, NIH, grant applications 1 R01 GM125140-01 and 1 R01 GM126685-01. None of the applications received funding, and three were withdrawn before review (1 R01 DK114804-01, 1 R01 DK116203-01, and 1 R01 DK118645-01A1).

In addition to making an admission, Respondent cooperated fully with UConn and ORI, has expressed remorse for her actions, and took full responsibility for her reckless behavior.

Specifically, ORI finds that:

• Respondent mislabeled figure images in four grant applications, as follows:

—in Figure 3D in 1 R01 DK116203-01, Figure 4D in 1 R01 GM125140-01, and Figure 4D in 1 R01 DK114804-01, mislabeled Western blot bands showing the effect of alcohol-induced liver injury in mice on HMGB2 gene reactivation

—in Figure 9A in 1 R01 DK116203-01, Figure 10A in 1 R01 GM125140-01, Figure 10A in 1 R01 DK114804-01, and Figure 11A in 1 R01 DK080440-09A1, labeled Western blot bands showing the knockdown of HMGB2 protein using shHMGB2 in human stellate cells (LX2) as the effect on tumor initiating cells (TIC)

—in Figure 13A in 1 R01 DK116203-01, Figure 13A in 1 R01 GM125140-01, Figure 13A in 1 R01 DK114804-01, and Figure 14A in 1 R01 DK080440-09A1, mislabeled confocal images showing the activation of α-SMA in primary HSCs as the activation of GFAP

• in Figure 10 in 1 R01 DK118645-01A1, Respondent used Western blot bands labeled as miR181c in five previous grant applications (1 R01 DK114804-01, 1 R01 DK116203-01, 1 R01 DK080440-09A1, 1 R01 GM125140-01, 1 R01 GM126685-01) to represent a negative control without specifying that miR-181c was the negative control and explaining why it was used as the negative control

• in Figure 13C in 1 R01 DK114804-01 and Figure 14C in 2 R01 DK080440-09A1, Respondent presented Western blot data showing decreased HMGB2 expression over time in primary HSCs when she knew these preliminary data were not sufficiently robust Dr. Wang entered into a Voluntary Settlement Agreement and voluntarily agreed for a period of one (1) year, beginning on August 14, 2018:

(1) To have her research supervised; Respondent agrees that prior to the submission of an application for U.S. Public Health Service (PHS) support for a research project on which the Respondent's participation is proposed and prior to Respondent's participation in any capacity on PHS-supported research, Respondent shall ensure that a plan for supervision of Respondent's duties is submitted to ORI for approval; the supervision plan must be designed to ensure the scientific integrity of Respondent's research contribution; Respondent agrees that she shall not participate in any PHS-supported research until such a supervision plan is submitted to and approved by ORI; Respondent agrees to maintain responsibility for compliance with the agreed upon supervision plan;

(2) that any institution employing her shall submit, in conjunction with each application for PHS funds, or report, manuscript, or abstract involving PHS-supported research in which Respondent is involved, a certification to ORI that the data provided by Respondent are based on actual experiments or are otherwise legitimately derived and that the data, procedures, and methodology are accurately reported in the application, report, manuscript or abstract; and

(3) to exclude herself voluntarily from serving in any advisory capacity to PHS including, but not limited to, service on any PHS advisory committee, board, and/or peer review committee, or as a consultant.

Wanda K. Jones,
Interim Director, Office of Research Integrity.

[FR Doc. 2018-19019 Filed 8-30-18; 8:45 am]

BILLING CODE 4150-31-P